DEPARTMENT OF ENERGY

Federal Energy Regulatory Commission

[Docket No. RP02-99-005]

Transcontinental Gas Pipe Line Corporation; Notice of Compliance Filing

October 9, 2002.

Take notice that on October 4, 2002, Transcontinental Gas Pipe Line Corporation (Transco) tendered for filing as part of its FERC Gas Tariff, Third Revised Volume No. 1, certain revised tariff sheets listed on Appendix A to the filing, with an effective date of September 5, 2002.

Transco submits the filing pursuant to Ordering Paragraph (C) of the Commission's Order on Initial Decision issued September 5, 2002 (September 5 Order) in Docket Nos. RP02-99-000 and RP02-144-000. The tariff sheets submitted therein contain a proposed rate schedule and form of service agreement for gathering service provided on the subject North Padre Island gathering facilities described in the September 5 Order.

Transco states that the purpose of this filing is to comply with the Commission's September 5 Order, by filing a new rate schedule and a new form of service agreement that governs the gathering service on the North Padre Island gathering facilities.

Transco states that copies of the filing are being mailed to affected customers and interested State Commissions.

Any person desiring to protest said filing should file a protest with the Federal Energy Regulatory Commission, 888 First Street, NE., Washington, DC 20426, in accordance with section 385.211 of the Commission's rules and regulations. All such protests must be filed in accordance with section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-26255 Filed 10-15-02; 8:45 am]

BILLING CODE 6717-01-P